DEPARTMENT OF TRANSPORTATION

Federal Aviation Administration

14 CFR Part 39

[Docket No. FAA-2025-1731; Project Identifier MCAI-2025-00491-T; Amendment 39-23109; AD 2025-16-11]

RIN 2120-AA64

Airworthiness Directives; Airbus SAS Airplanes

AGENCY: Federal Aviation Administration (FAA), DOT.

ACTION: Final rule; request for comments.

SUMMARY: The FAA is adopting a new airworthiness directive (AD) for all Airbus SAS Model A321-271NY airplanes. This AD was prompted by the determination that affected parts addressed by other ADs could be installed in service on this airplane model. This AD requires corrective action if necessary and prohibits the installation of affected parts. The FAA is issuing this AD to address unsafe conditions on these products.

DATES: This AD is effective September 2, 2025.

The Director of the Federal Register approved the incorporation by reference of a certain publication listed in this AD as of September 2, 2025.

The FAA must receive comments on this AD by October 2, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building, Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-1731; or in person at Docket Operations between 9 a.m. and 5 p.m., Monday through Friday, except Federal holidays. The AD docket contains this final rule, the mandatory continuing airworthiness information (MCAI), any comments received, and other information. The street address for Docket Operations is listed above.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-1731.

FOR FURTHER INFORMATION CONTACT: Dan Rodina, Aviation Safety Engineer, FAA, 2200 South 216th St., Des Moines, WA 98198; phone: 206-231-3225; email: Dan.Rodina@faa.gov.

SUPPLEMENTARY INFORMATION:

Comments Invited

The FAA invites you to send any written data, views, or arguments about this final rule. Send your comments using a method listed under the ADDRESSES section. Include “Docket No. FAA-2025-1731; Project Identifier MCAI-2025-00491-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Dan Rodina, Aviation Safety Engineer, FAA, 2200 South 216th St., Des Moines, WA 98198; phone: 206-231-3225; email: Dan.Rodina@faa.gov. Any commentary that the FAA receives which is not specifically designated as CBI will be placed in the public docket for this rulemaking.

Background

EASA, which is the Technical Agent for the Member States of the European Union, has issued EASA AD 2025-0075R1, dated July 21, 2025 (EASA AD 2025-0075R1) (also referred to as “the MCAI”), to correct unsafe conditions for all Model A321-271NY airplanes. The MCAI states that EASA issued several ADs to address various possible unsafe conditions. Those EASA ADs include requirements to prohibit installation of affected parts (i.e., certain overheat detection system (OHDS) sensing elements, SafeLav gaseous oxygen containers (SLOGCs), chemical oxygen generators, and trimmable horizontal stabilizer actuators (THSAs)) on Model A321 series airplanes (among other models). Since those EASA ADs were issued, a new airplane model, A321-271NY, has been certified, on which the affected parts could be installed in service.

The FAA is issuing this AD to address the following unsafe conditions:

• OHDS sensing elements that do not properly detect thermal bleed leak events. This unsafe condition, if not addressed, could result in an air leak remaining undetected by the OHDS at an affected position and not being isolated during flight, possibly resulting in localized areas of the main landing gear bay and keel beam being exposed to high temperatures and consequent reduced structural integrity of the airplane.

• Missing heat treatment of the actuation pin of the SLOGC, which could cause its jamming, with consequent failure of oxygen flow activation. This unsafe condition, if not addressed, could result in lack of supplemental oxygen supply in case of decompression in the cabin/lavatory, possibly resulting in injury to lavatory occupants.

• Poor reactivity of the start powder used inside the affected oxygen generators. This unsafe condition, if not addressed, could lead to a reduction of the available oxygen capacity of the airplane and could result in injury to airplane occupants.

• Improper installation of the THSA ball screw jack, which can compromise the failsafe design of the THSA. This unsafe condition, if not addressed, could result in uncontrolled movement of the horizontal stabilizer as a result of a single failure of the THSA and consequent loss of control of the airplane.

• Erroneous accumulated life information in the THSA release certificate, which could lead to operation of the THSA beyond the certificated life limit. This unsafe condition, if not addressed, could result in failure of the THSA and consequent reduced controllability of the airplane.

You may examine the MCAI in the AD docket at regulations.gov under Docket No. FAA-2025-1731.

Material Incorporated by Reference Under 1 CFR Part 51

The FAA reviewed EASA AD 2025-0075R1, which specifies procedures for obtaining approved instructions if an affected part is installed and prohibits installation of affected parts. This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI referenced above. The FAA is issuing this AD after determining that the unsafe condition described previously is likely to exist or develop on other products of the same type design.

Requirements of This AD

This AD requires accomplishing the actions specified in EASA AD 2025-0075R1 described previously, except for any differences identified as exceptions in the regulatory text of this AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2025-0075R1 is incorporated by reference in this AD. This AD requires compliance with EASA AD 2025-0075R1 in its entirety through that incorporation, except for any differences identified as exceptions in the regulatory text of this AD. Using common terms that are the same as the heading of a particular section in EASA AD 2025-0075R1 does not mean that operators need comply only with that section. For example, where the AD requirement refers to “all required actions and compliance times,” compliance with this AD requirement is not limited to the section titled “Required Action(s) and Compliance Time(s)” in EASA AD 2025-0075R1. Material required by EASA AD 2025-0075R1 for compliance will be available at regulations.gov under Docket No. FAA-2025-1731 after this AD is published.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

There are currently no domestic operators of these products. Accordingly, notice and opportunity for prior public comment are unnecessary, pursuant to 5 U.S.C. 553(b). In addition, for the foregoing reason(s), the FAA finds that good cause exists pursuant to 5 U.S.C. 553(d) for making this amendment effective in less than 30 days.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

Currently, there are no affected U.S.-registered airplanes. The FAA has received no definitive data on which to base the cost estimate for addressing an affected part installed on an airplane, nor has any way to determine the number of airplanes that may have an affected part installed.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-16-11 Airbus SAS: Amendment 39-23109; Docket No. FAA-2025-1731; Project Identifier MCAI-2025-00491-T.

(a) Effective Date

This airworthiness directive (AD) is effective September 2, 2025.

(b) Affected ADs

None.

(c) Applicability

This AD applies to all Airbus SAS Model A321-271NY airplanes, certificated in any category.

(d) Subject

Air Transport Association (ATA) of America Code 27, Flight Controls; 32, Landing Gear; 35, Oxygen; 36, Pneumatic.

(e) Unsafe Condition

This AD was prompted by the determination that affected parts addressed by other ADs could also be installed in service on this airplane model. The FAA is issuing this AD to address the unsafe conditions identified in paragraphs (e)(1) through (5) of this AD.

(1) Overheat detection system (OHDS) sensing elements that do not properly detect thermal bleed leak events. This unsafe condition, if not addressed, could result in an air leak remaining undetected by the OHDS at an affected position and not being isolated during flight, possibly resulting in localized areas of the main landing gear bay and keel beam being exposed to high temperatures and consequent reduced structural integrity of the airplane.

(2) Missing heat treatment of the actuation pin of the SafeLav gaseous oxygen container, which could cause its jamming, with consequent failure of oxygen flow activation. This unsafe condition, if not addressed, could result in lack of supplemental oxygen supply in case of decompression in the cabin/lavatory, possibly resulting in injury to lavatory occupants.

(3) Poor reactivity of the start powder used inside the affected oxygen generators. This unsafe condition, if not addressed, could lead to a reduction of the available oxygen capacity of the airplane and could result in injury to airplane occupants.

(4) Improper installation of the trimmable horizontal stabilizer actuator (THSA) ball screw jack, which can compromise the failsafe design of the THSA. This unsafe condition, if not addressed, could result in uncontrolled movement of the horizontal stabilizer as a result of a single failure of the THSA and consequent loss of control of the airplane.

(5) Erroneous accumulated life information in the THSA release certificate, which could lead to operation of the THSA beyond the certificated life limit. This unsafe condition, if not addressed, could result in failure of the THSA and consequent reduced controllability of the airplane.

(f) Compliance

Comply with this AD within the compliance times specified, unless already done.

(g) Requirements

Except as specified in paragraph (h) of this AD: Comply with all required actions and compliance times specified in, and in accordance with, European Union Aviation Safety Agency (EASA) AD 2025-0075R1, dated July 21, 2025 (EASA AD 2025-0075R1).

(h) Exceptions to EASA AD 2025-0075R1

(1) Where EASA AD 2025-0075R1 refers to its effective date, this AD requires using the effective date of this AD.

(2) This AD does not adopt the “Remarks” section of EASA AD 2025-0075R1.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(j) Additional Information

For more information about this AD, contact Dan Rodina, Aviation Safety Engineer, FAA, 2200 South 216th St., Des Moines, WA 98198; phone: 206-231-3225; email: Dan.Rodina@faa.gov.

(k) Material Incorporated by Reference

(1) The Director of the Federal Register approved the incorporation by reference (IBR) of the material listed in this paragraph under 5 U.S.C. 552(a) and 1 CFR part 51.

(2) You must use this material as applicable to do the actions required by this AD, unless this AD specifies otherwise.

(i) European Union Aviation Safety Agency (EASA) AD 2025-0075R1, dated July 21, 2025.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on August 5, 2025.
Peter A. White,
Deputy Director, Integrated Certificate Management Division, Aircraft Certification Service.

[FR Doc. 2025-15687 Filed 8-15-25; 8:45 am]

BILLING CODE 4910-13-P